DEPARTMENT OF LABOR

Employment and Training Administration

[TA-W-51,655]

Timeplex, LLC, a Division of Platinum Equity Holdings, Hackensack, NJ; Notice of Revised Determination on Reconsideration

On November 21, 2003, the Department issued an Affirmative Determination Regarding Application on Reconsideration applicable to workers and former workers of the subject firm. The notice was published in the Federal Register on December 19, 2003 (68 FR 70838-70839).

On June 10, 2003 the Department initially denied TAA to workers of Timeplex, LLC, a division of Platinum Equity Holdings, Hackensack, New Jersey producing telecommunications equipment because the “contributed importantly” group eligibility requirement of section 222 of the Trade Act of 1974 was not met.

On reconsideration, the department surveyed customers of the subject plant regarding their purchases of telecommunications equipment during 2001, 2002, and January through May of 2003 over the corresponding period in 2002. The survey revealed that major declining customer(s) increased their imports of telecommunications equipment, while decreasing their purchases from the subject plant during the relevant period.

Conclusion

After careful review of the additional facts obtained on reconsideration, I conclude that increased imports of articles like or directly competitive with telecommunications equipment, contributed importantly to the declines in sales or production and to the total or partial separation of workers of Timeplex, LLC, a division of Platinum Equity Holdings, Hackensack, New Jersey. In accordance with the provisions of the Act, I make the following certification:

All workers of Timeplex, LLC, a division of Platinum Equity Holdings, Hackensack, New Jersey who became totally or partially separated from employment on or after April 28, 2002 through two years of this certification, are eligible to apply for adjustment assistance under section 223 of the Trade Act of 1974.

Signed in Washington, DC this 12th day of February 2004.
Elliott S. Kushner,
Certifying Officer, Division of Trade Adjustment Assistance.

[FR Doc. 04-3913 Filed 2-23-04; 8:45 am]

BILLING CODE 4510-30-P